DEPARTMENT OF COMMERCE

International Trade Administration

Agency Information Collection Activities; Submission to the Office of Management and Budget (OMB) for Review and Approval; Comment Request; Foreign-Trade Zone Applications

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 21, 2021, during a 60-day comment period. This notice allows for an additional 30 days for public comments.

Agency: International Trade Administration, Commerce.

Title: Foreign-Trade Zone Applications.

OMB Control Number: 0625-0139.

Form Number(s): None.

Type of Request: Regular submission, extension of a current information collection.

Number of Respondents: 288.

Average Hours per Response: 3.5 to 131 hours.

Burden Hours: 2,521 hours.

Needs and Uses: The Foreign-Trade Zone Application is the vehicle by which individual firms or organizations apply for foreign-trade zone (FTZ) status, for subzone status, production authority, or for expansion/reorganization of an existing zone. The FTZ Act and Regulations require that an application with a description of the proposed project be made to the FTZ Board (19 U.S.C. 81b and 81f; 15 CFR 400.24.26) before a license can be issued or a zone can be expanded. The Act and the Regulations require that applications contain detailed information on facilities, financing, operational plans, proposed production operations, need and economic impact. Production activity in zones or subzones can involve issues related to domestic industry and trade policy impact. Such applications must include specific information on the customs tariff-related savings that result from zone procedures and the economic consequences of permitting such savings. The FTZ Board needs complete and accurate information on the proposed operation and its economic effects because the Act and Regulations authorize the Board to restrict or prohibit operations that are detrimental to the public interest.

Affected Public: State, local, or tribal governments or not-for-profit institutions which are FTZ grantees, as well as private companies.

Frequency: As necessary to receive benefits.

Respondent's Obligation: Mandatory.

Legal Authority: 19 U.S.C. 81b and 81f; 15 CFR 400.24.26.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0625-0139.

Sheleen Dumas,
Department PRA Clearance Officer, Office of the Chief Information Officer, Commerce Department.

[FR Doc. 2022-06707 Filed 3-29-22; 8:45 am]

BILLING CODE 3510-DS-P